DEPARTMENT OF TRANSPORTATION

Office of the Secretary

Aviation Proceedings, Agreements Filed the Week Ending October 8, 2004

The following Agreements were filed with the Department of Transportation under the provisions of 49 U.S.C. 412 and 414. Answers may be filed within 21 days after the filing of the application.

Docket Number: OST-04-19302.

Date Filed: October 4, 2004.

Parties: Members of the International Air Transport Association.

Subject: PTC COMP 1191 dated 5 October 2004, Mail Vote 414 Resolution 010z, Special Passenger Amending Resolution from Indonesia, Sri Lanka, Intended effective date: 1 November 2004.

Docket Number: OST-2004-19335.

Date Filed: October 6, 2004.

Parties: Members of the International Air Transport Association.

Subject: PTC23 EUR-SASC 0132 dated 5 October 2004, Mail Vote 408 Europe-South Asian Subcontinent r1-r11, Minutes: PTC23 EUR-SASC 0131 dated 24 September 2004, Tables: PTC23 EUR-SASC Fares 0060 dated 5 October 2004, Intended effective date: 1 April 2005.

Docket Number: OST-2004-19356.

Date Filed: October 8, 2004.

Parties: Members of the International Air Transport Association.

Subject: Mail Vote 410, PTC23 ME-TC3 0215 dated 8 October 2004, Middle East-South West Pacific Resolutions r1-r12, Minutes: PTC23 ME-TC3 0214 dated 5 October 2004, Tables: PTC23 ME-TC3 Fares 0097 dated 8 October 2004, Intended effective dates: 15 January 2005, 1 April 2005.

Docket Number: OST-2004-19364.

Date Filed: October 8, 2004.

Parties: Members of the International Air Transport Association.

Subject: PTC23 ME-TC3 0212 dated 21 September 2004, Middle East-South Asian Subcontinent Resolutions r1-r11, PTC23 ME-TC3 0213 dated 21 September 2004, Middle East-Japan/Korea Resolutions r12-r33, Minutes: PTC23 ME-TC3 0214 dated 5 October 2004, Tables: PTC23 ME-TC3 Fares 0092/0093 dated 24 September 2004, Intended effective date: 1 April 2005.

Docket Number: OST-2004-19365.

Date Filed: October 8, 2004.

Parties: Members of the International Air Transport Association.

Subject: PTC23-TC3 0242 dated 21 September 2004, Africa-South Asian Subcontinent Resolutions, r1-r9, PTC23 AFR-TC3 0243 dated 21 September 2004, Africa-South West Pacific Resolutions, r10-r21, Minutes: PTC23 AFR-TC3 0248 dated 5 October 2004, Tables: PTC23 AFR-TC3 Fares 0113, PTC23 AFR-TC3 Fares 0114 dated 24 September 2004, Intended effective date: 1 April 2005.

Docket Number: OST-2004-19366.

Date Filed: October 8, 2004.

Parties: Members of the International Air Transport Association.

Subject: Mail Vote 411, PTC23 AFR-TC3 0249 dated 8 October 2004, Africa-South East Asia Resolutions r1-r15, Mail Vote 412, PTC23 AFR-TC3 0250 dated 8 October 2004, Africa-South West Pacific Resolutions r16-r36, Minutes: PTC23 AFR-TC3, 0248 dated 5 October 2004, Tables: PTC23 AFR-TC3, Fares 0120, PTC23 AFR TC3, Fares 0123 dated 8 October 2004, Intended effective dates: 31 October 2004, 1 November 2004, 15 January 2005, 1 April 2005.

Renee V. Wright,
Supervisory Docket Officer, Alternate Federal Register Liaison.

[FR Doc. 04-23564 Filed 10-20-04; 8:45 am]

BILLING CODE 4910-62-P